DEPARTMENT OF COMMERCE

International Trade Administration

[C-570-109]

Ceramic Tile From the People's Republic of China: Postponement of Preliminary Determination in the Countervailing Duty Investigation

AGENCY: Enforcement and Compliance, International Trade Administration, U.S. Department of Commerce

DATES: Applicable June 24, 2019.

FOR FURTHER INFORMATION CONTACT: Yasmin Bordas, Moses Song, or John McGowan, at (202) 482-3813, (202) 482-7885, or (202) 492-3019, respectively; AD/CVD Operations, Office VI, Enforcement and Compliance, International Trade Administration, U.S. Department of Commerce, 1401 Constitution Avenue NW, Washington, DC 20230.

SUPPLEMENTARY INFORMATION:

Background

On April 30, 2019, the Department of Commerce (Commerce) initiated a countervailing duty (CVD) investigation on ceramic tile from the People's Republic of China.¹ Currently, the preliminary determination is due no later than July 5, 2019.²

¹ See Ceramic Tile from the People's Republic of China: Initiation of Countervailing Duty Investigation, 84 FR 20101 (May 8, 2019).

² The preliminary determination deadline falls on July 4, 2019. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of the Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 7, 2019, the petitioner, the Coalition for Fair Trade in Ceramic Tile, submitted a timely request that we postpone the preliminary CVD determination because Commerce is still in the respondent selection phase of this investigation, and because this case may present certain complicated issues. The petitioner states that additional time is necessary to ensure that Commerce can conduct a full investigation regarding the subsidy benefits received by Chinese producers and exporters of ceramic tile.³

³ See Letter from the petitioner, “Countervailing Duty Investigation of Ceramic Tile from the People's Republic of China: Petitioner's Request for Postponement of Preliminary Determination,” dated June 7, 2019.

In accordance with 19 CFR 351.205(e), the petitioner has stated the reasons for requesting a postponement of the preliminary determination, and Commerce finds no compelling reason to deny the request. Therefore, pursuant to section 703(c)(1)(A) of the Act, we are extending the due date for the preliminary determination to September 6, 2019. Pursuant to section 705(a)(1) of the Act and 19 CFR 351.210(b)(1), the deadline for the final determination will continue to be 75 days after the date of the preliminary determination.

Notification to Interested Parties

This notice is issued and published pursuant to section 703(c)(2) of the Act and 19 CFR 351.205(f)(l).

Dated: June 14, 2019.
Jeffrey I. Kessler,
Assistant Secretary for Enforcement and Compliance.

[FR Doc. 2019-13314 Filed 6-21-19; 8:45 am]

BILLING CODE 3510-DS-P